DEPARTMENT OF THE INTERIOR

Fish and Wildlife Service

Information Collection Renewal To Be Submitted to the Office of Management and Budget (OMB) for Approval Under the Paperwork Reduction Act; USFWS Training Records: Application for FWS Training Request; 1018-0115

AGENCY: Fish and Wildlife Service, Interior.

ACTION: Notice; request for comments.

SUMMARY: We (Fish and Wildlife Service, Service) plan to submit to OMB a request to renew approval for information collection associated with our Training Application (FWS Form 3-2193). Applicants who wish to participate in training sponsored by the Fish and Wildlife Service National Conservation Training Center complete a training application, which is offered in both electronic (Web) and hard copy versions. The Web application form is at http://training.fws.gov/catalog/app99.html. Information collection requirements for this submission implement the requirements of 5 U.S.C. 41 and 5 CFR 410.

DATES: You must submit comments on or before March 22, 2005.

ADDRESSES: Send your comments on the specific information collection to Hope Grey, Information Collection Clearance Officer, Fish and Wildlife Service, MS 222-ARLSQ, 4401 N. Fairfax Drive, Arlington, VA 22203 (mail); hope_grey@fws.gov (e-mail); or (703) 358-2269 (fax).

FOR FURTHER INFORMATION CONTACT: To request a copy of the information collection requirements, explanatory information, or related forms, contact Hope Grey, Information Collection Clearance Officer, at the above addresses or by telephone at (703) 358-2482.

SUPPLEMENTARY INFORMATION: OMB regulations at 5 CFR 1320, which implement the provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

The National Conservation Training Center (NCTC) in Shepherdstown, West Virginia, provides natural resource and other professional training for Service employees, employees of other Federal agencies, and other affiliations. While most training is for Service employees, NCTC offers student slots to State agencies, private individuals, not-for-profit organizations, and university personnel.

NCTC designed FWS Form 3-2193 (Training Application) as a quick and easy method for prospective students to request training. We encourage applicants to use FWS Form 3-2193 and to submit their requests electronically. However, we do not require applicants to complete both a training form required by their agency and FWS Form 3-2193. NCTC will accept any single training request as long as each submission identifies the name, address, and phone number of the applicant, sponsoring agency, class and start date, and financial payment information.

NCTC uses data from the form to generate class rosters, class transcripts, and statistics, and as a budgeting tool for projecting training requirements. It is also used to track attendance, mandatory requirements, tuition, and invoicing for all NCTC sponsored courses both on- and off-site.

Title: USFWS Training Records: Application for FWS Training Request.

OMB Control Number: 1018-0115.

Form Number: FWS Form 3-2193.

Frequency: When applying for training.

Description of Respondents: Persons who wish to participate in training given at or sponsored by the NCTC.

Total Annual Burden Hours: 60.33 hours.

Total Annual Responses: 724.

During the past 3 months, we conducted limited public outreach directed at various personnel who have completed FWS Form 3-2193 to request training at the NCTC. All respondents indicated that the information we collect is necessary and appropriate and that the reporting burden is not excessive. In addition, we have revised FWS Form 3-2193 to accommodate some of their comments.

We invite your comments concerning this information collection on: (1) Whether or not the collection of information is necessary for the proper performance of the functions of the agency, including whether or not the information will have practical utility; (2) the accuracy of the agency's estimate of burden, (3) ways to enhance the quality, utility and clarity of the information to be collected; and (4) ways to minimize the burden of the collection of information on those who are to respond. The information collections in this program are part of a system of records covered by the Privacy Act (5 U.S.C. 552a).

Dated: January 7, 2005.
Hope Grey,
Information Collection Clearance Officer, Fish and Wildlife Service.

[FR Doc. 05-1133 Filed 1-19-05; 8:45 am]

BILLING CODE 4310-55-P